DEPARTMENT OF COMMERCE

International Trade Administration

[A-549-839]

Steel Propane Cylinders From Thailand: Amended Final Results of Antidumping Duty Administrative Review; 2021-2022

AGENCY: Enforcement and Compliance, International Trade Administration, Department of Commerce.

SUMMARY: The U.S. Department of Commerce (Commerce) is amending the final results of the administrative review of the antidumping duty order on steel propane cylinders from Thailand to correct one ministerial error. The period of review (POR) is August 1, 2021, through July 31, 2022.

DATES: Applicable March 29, 2024.

FOR FURTHER INFORMATION CONTACT: Samuel Brummitt, AD/CVD Operations, Office III, Enforcement and Compliance, International Trade Administration, U.S. Department of Commerce, 1401 Constitution Avenue NW, Washington, DC 20230; telephone: (202) 482-7851.

SUPPLEMENTARY INFORMATION:

Background

On February 23, 2024, Commerce published the final results of the 2021-2022 administrative review of the antidumping duty order on steel propane cylinders from Thailand.¹ On February 29, 2024, Sahamitr Pressure Container Public Company Limited (SMPC), the sole respondent in this administrative review, timely alleged that Commerce made a ministerial error in the Final Results.² Commerce is amending its Final Results to correct for the ministerial error alleged by SMPC. No other party made a ministerial error allegation or provided rebuttal comments in response to SMPC's ministerial error allegation.

¹ See Steel Propane Cylinders from Thailand: Final Results of Antidumping Duty Administrative Review; 2021-2022, 89 FR 13690 (February 23, 2024) (Final Results), and accompanying Issues and Decision Memorandum; see also Memorandum, “Deadline for Ministerial Error Comments for the Final Results,” dated February 22, 2024.

² See SMPC's Letter, “Request for the Correction of a Ministerial Error Contained in the Final Results of Review,” dated February 29, 2024.

Legal Framework

A “ministerial error” is defined as including “errors in addition, subtraction, or other arithmetic function, clerical errors resulting from inaccurate copying, duplication, or the like, and any other type of unintentional error which the {Commerce} considers ministerial.” ³ Pursuant to 19 CFR 351.224(e), Commerce will analyze any comments received and, if appropriate, correct any ministerial error by amending the final results of review.

³ See section 751(h) of the Act; see also 19 CFR 351.224(f).

Ministerial Error

In the Final Results, Commerce made an inadvertent error within the meaning of section 751(h) of the Tariff Act of 1930, as amended (the Act) and 19 CFR 351.224(f) with respect to the selection of sales databases used in SMPC's margin analysis. Accordingly, pursuant to 19 CFR 351.224(e), Commerce is amending the Final Results to correct for this ministerial error.⁴ For a complete description and analysis of the specific inadvertent error, and SMPC's ministerial error allegation, see the accompanying Ministerial Error Allegation Memorandum.⁵ The Ministerial Error Allegation Memorandum is a public document and is on file electronically via Enforcement and Compliance's Antidumping and Countervailing Duty Centralized Electronic Service System (ACCESS). ACCESS is available to registered users at https://access.trade.gov.

⁴ See Memorandum, “Antidumping Duty Administrative Review of Steel Propane Cylinders from Thailand (2021-2022): Ministerial Error Allegation,” dated concurrently with this notice (Ministerial Error Allegation Memorandum).

⁵ Id.

Amended Final Results of Review

As a result of correcting this ministerial error, Commerce determines that, for the POR August 1, 2021, through July 31, 2022, the following weighted-average dumping margin exists:

Exporter/producer | Weighted- average dumping margin (percent)
Sahamitr Pressure Container Plc | 2.15

Disclosure

We intend to disclose the calculations performed for these amended final results to parties in this review, under administrative protective order (APO), within five days of the date of publication of this notice in the Federal Register, in accordance with 19 CFR 351.224(b).

Assessment Rate

Pursuant to section 751(a)(2)(C) of the Act and 19 CFR 351.212(b)(1), Commerce has determined, and U.S. Customs and Border Protection (CBP) shall assess, antidumping duties on all appropriate entries of subject merchandise in accordance with these amended final results of the administrative review.

Pursuant to 19 CFR 351.212(b)(1), where the respondent reported the entered value of its U.S. sales, we calculated importer-specific ad valorem duty assessment rates based on the ratio of the total amount of dumping calculated for the examined sales to the total entered value of the sales for which entered value was reported. Where the respondent did not report entered value, we calculated the entered value in order to calculate the assessment rate. Where either the respondent's weighted-average dumping margin is zero or de minimis within the meaning of 19 CFR 351.106(c)(1), or an importer-specific rate is zero or de minimis, we will instruct CBP to liquidate the appropriate entries without regard to antidumping duties.

Commerce's “automatic assessment” will apply to entries of subject merchandise during the POR produced by SMPC for which it did not know that the merchandise it sold to the intermediary (e.g., a reseller, trading company, or exporter) was destined for the United States. In such instances, we will instruct CBP to liquidate unreviewed entries at the all-others rate if there is no rate for the intermediate company(ies) involved in the transaction.

Commerce intends to issue assessment instructions to CBP no earlier than 35 days after the date of publication of the amended final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective retroactively for all shipments of subject merchandise that entered, or were withdrawn from warehouse, for consumption on or after February 23, 2024, the date of publication of the Final Results of this administrative review, as provided for by section 751(a)(2)(C) of the Act: (1) the cash deposit rate for SMPC will be equal to the weighted-average dumping margin established in these amended final results of review; (2) for producers or exporters not covered in this review but covered in a prior segment of the proceeding, the cash deposit rate will continue to be the company-specific rate published for the most recently completed segment of this proceeding; (3) if the exporter is not a firm covered in this review or another completed segment of this proceeding, but the producer is, then the cash deposit rate will be the rate established for the most recently completed segment of this proceeding for the producer of the merchandise; and (4) if neither the exporter nor the producer is a firm covered in this or any previously completed segment of this proceeding, then the cash deposit rate will be the all-others rate of 10.77 percent established in the less-than-fair-value investigation.⁶ These cash deposit requirements, when imposed, shall remain in effect until further notice.

⁶ See Steel Propane Cylinders from Thailand: Final Determination of Sales at Less Than Fair Value, 84 FR 29168, 29169 (June 21, 2019).

Notification to Importers

This notice also serves as a final reminder to importers of their responsibility under 19 CFR 351.402(f)(2) to file a certificate regarding the reimbursement of antidumping duties prior to liquidation of the relevant entries during this POR. Failure to comply with this requirement could result in the Commerce's presumption that reimbursement of antidumping duties occurred and the subsequent assessment of double antidumping duties.

Administrative Protective Order

This notice also serves as a reminder to parties subject to an APO of their responsibility concerning the disposition of proprietary information disclosed under APO in accordance with 19 CFR 351.305(a)(3), which continues to govern business proprietary information in this segment of the proceeding. Timely written notification of return or destruction of APO materials or conversion to judicial protective order is hereby requested. Failure to comply with the regulations and the terms of an APO is a sanctionable violation.

Notification to Interested Parties

The amended final results and notice are issued and published in accordance with sections 751(h) and 777(i) of the Act and 19 CFR 351.224(e).

Dated: March 22, 2024.
Ryan Majerus,
Deputy Assistant Secretary for Policy and Negotiations, performing the non-exclusive functions and duties of the Assistant Secretary for Enforcement and Compliance.

[FR Doc. 2024-06672 Filed 3-28-24; 8:45 am]

BILLING CODE 3510-DS-P